DEPARTMENT OF THE INTERIOR

National Park Service

[N6482; NPS-WASO-NAGPRA-NPS0040990; PPWOCRADN0-PCU00RP14.R50000]

Notice of Inventory Completion: Abbe Museum, Bar Harbor, ME

AGENCY: National Park Service, Interior.

ACTION: Notice.

SUMMARY: In accordance with the Native American Graves Protection and Repatriation Act (NAGPRA), the Abbe Museum has completed an inventory of human remains and has determined that there is a cultural affiliation between the human remains and Indian Tribes or Native Hawaiian organizations in this notice.

DATES: Repatriation of the human remains in this notice may occur on or after October 14, 2025.

ADDRESSES: Send written requests for repatriation of the human remains in this notice to Aaron F. Miller, Curator of Exhibits & Collections, Abbe Museum, P.O. Box 286, Bar Harbor, ME 04609, email aaron@abbemuseum.org.

SUPPLEMENTARY INFORMATION: This notice is published as part of the National Park Service's administrative responsibilities under NAGPRA. The determinations in this notice are the sole responsibility of the Abbe Museum, and additional information on the determinations in this notice, including the results of consultation, can be found in its inventory or related records. The National Park Service is not responsible for the determinations in this notice.

Abstract of Information Available

Human remains representing, at least, one individual have been identified. No associated funerary objects are present.

In the summer of 2024, the collection of faunal materials from the Tranquility Farm site (44.12A), Gouldsboro, ME were approved by the Abbe Museum Collections Committee to be analyzed by a team of researchers based at Boston University, Boston, MA. That analysis revealed a human tooth that had been recovered during the 2011 Abbe Museum archaeological field school at the site. Ancestral remains representing three individuals had been previously removed from the site between 1931 and 1936. Those ancestral remains were repatriated by the Abbe Museum in 1997 (see Notice of Inventory Completion published in Federal Register on July 20, 1994 (94-17582)) to the Wabanaki Tribes of Maine (Houlton Band of Maliseet Indians, Mi'kmaq Nation, Passamaquoddy Tribe, and Penobscot Nation).

Cultural Affiliation

Based on the information available and the results of consultation, cultural affiliation is reasonably identified by the geographical location of the human remains described in this notice.

Determinations

The Abbe Museum has determined that:

• The human remains described in this notice represent the physical remains of one individual of Native American ancestry.

• There is a connection between the human remains described in this notice and the Houlton Band of Maliseet Indians; Mi'kmaq Nation (previously listed as Aroostook Band of Micmacs); Passamaquoddy Tribe; and the Penobscot Nation.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after October 14, 2025. If competing requests for repatriation are received, the Abbe Museum must determine the most appropriate requestor prior to repatriation. Requests for joint repatriation of the human remains are considered a single request and not competing requests. The Abbe Museum is responsible for sending a copy of this notice to the Indian Tribes and Native Hawaiian organizations identified in this notice and any other consulting parties.

Authority: Native American Graves Protection and Repatriation Act, 25 U.S.C. 3003, and the implementing regulations, 43 CFR 10.10.

Dated: August 21, 2025.
Melanie O'Brien,
Manager, National NAGPRA Program.

[FR Doc. 2025-17493 Filed 9-10-25; 8:45 am]

BILLING CODE 4312-52-P